FEDERAL COMMUNICATIONS COMMISSION

Notice of Public Information Collection(s) Being Submitted for Review to the Office of Management and Budget

August 14, 2008.

SUMMARY: The Federal Communications Commission, as part of its continuing effort to reduce paperwork burden invites the general public and other Federal agencies to take this opportunity to comment on the following information collection(s), as required by the Paperwork Reduction Act (PRA) of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before October 24, 2008. If you anticipate that you will be submitting PRA comments, but find it difficult to do so within the period of time allowed by this notice, you should advise the FCC contact listed below as soon as possible.

ADDRESSES: Direct all PRA comments to Nicholas A. Fraser, Office of Management and Budget, (202) 395-5887, or via fax at 202-395-5167 or via internet at Nicholas_A._Fraser@omb.eop.gov and to Judith-B.Herman@fcc.gov, Federal Communications Commission, or an e-mail to PRA@fcc.gov. To view a copy of this information collection request (ICR) submitted to OMB: (1) Go to the Web page http://www.reginfo.gov/public/do/PRAMain, (2) look for the section of the Web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: For additional information, contact Judith B. Herman at 202-418-0214 or via the Internet at Judith-B.Herman@fcc.gov.

SUPPLEMENTARY INFORMATION: OMB Control Number: 3060-0742.

Title: Sections 52.21 through 52.33, Telephone Number Portability (47 CFR Part 52, Subpart C), CC Docket No. 95-116.

Form No.: N/A.

Type of Review: Extension of a currently approved collection.

Respondents: Business or other for-profit.

Number of Respondents: 1,990 respondents; 1,990 responses.

Estimated Time Per Response: 2 hours-50 hours.

Frequency of Response: On occasion and one-time reporting requirements, recordkeeping requirement, and third party disclosure requirement.

Obligation to Respond: Required to obtain or retain benefits.

Total Annual Burden: 5,850 hours.

Total Annual Cost: $91,000.

Privacy Act Impact Assessment: N/A.

Nature and Extent of Confidentiality: There is no need for confidentiality. The Commission is not requesting respondents to submit confidential information to the Commission. If the Commission requests respondents to submit information which the respondent believes is confidential, they may request confidential treatment of such information pursuant to Section 0.459 of the Commission's rules (see 47 CFR 0.459).

Needs and Uses: The Commission will submit this information collection to the Office of Management and Budget (OMB) as an extension after this 60 day comment period to obtain the full three year clearance from them. There is no change to the reporting, recordkeeping and/or third party disclosure requirements. However, the Commission is reporting an adjusted increase in the number of respondents filing information with the Commission, and the tariff and cost support estimate has been reduced from 149 hours per response to 50 hours per response.

Thereby, reducing the total annual burden by 8,483 hours. There are four information collection requirements in this information collection subject to OMB review and approval under the Paperwork Reduction Act. They are: (1) Requests for long-term number portability; (2) petitions to extend implementation deadlines; (3) tariffs and cost support; and (4) recordkeeping requirement. The reporting requirements and recordkeeping requirement are as follows:

(a) Requests for long-term number portability—Long-term number portability (LNP) must be provide by Local Exchange Carriers (LECs) and Commercial Mobile Radio Service (CMRS) providers in switches for which another carrier has made a specific request for number portability, according to the Commission's deployment schedule. Wireline carriers began providing LNP in 1998. CMRS providers began offering LNP in 2003.

(b) Petitions to extend implementation deadline—Carriers that are unable to meet the deadlines for implementing a long-term number portability solution are required to file with the Commission at least 60 days in advance of the deadline a petition to extend the time by which implementation in its network will be completed.

(c) Tariffs and cost support—Incumbent LECs may recover their carrier-specific costs directly related to providing long-term number portability by establishing in tariffs filed with the Commission certain number portability charges. Incumbent LECs are required to include many details in their cost support that are unique to the number portability proceeding pursuant to the Cost Classification Order. For instance, incumbent LECs must demonstrate that any incremental overhead costs claimed in their cost support are actually new costs incremental to and resulting from the provision of long-term number portability.

(d) Recordkeeping requirement—Incumbent LECs are required to maintain records that detail both the nature and specific amount of these carrier-specific costs that are directly related to number portability, and those carrier-specific costs that are not directly related to number portability.

The information collected and used by the Commission to determine compliance with Section 251 of the Communications Act, as amended, and the Commission's LNP orders and rules.

Federal Communications Commission.
Marlene H. Dortch,
Secretary.

[FR Doc. E8-19660 Filed 8-22-08; 8:45 am]

BILLING CODE 6712-01-P